DEPARTMENT OF STATE

Redelegation of Authorities by the Secretary of State, From the Under Secretary of State for Arms Control and International Security Affairs to the Assistant Secretary of State for Arms Control; Delegation of Authority 243

By virtue of the authority vested in me by the laws of the United States, including the Foreign Assistance Act of 1961, the Arms Export Control Act, and the State Department Basic Authorities Act of 1956, I hereby delegate to Avis T. Bohlen, the Assistant Secretary for Arms Control, to the extent authorized by law, all authorities vested in the Under Secretary of State for Arms Control and International Security Affairs, including all authorities vested in the Secretary of State that have been or may be delegated or redelgated to that Under Secretary.

Any authorities covered by this delegation may also be exercised by the Deputy Secretary, the Under Secretary for Political Affairs, or the Under Secretary for Economic, Business and Agricultural Affairs.

This delegation shall expire upon the appointment of an individual to serve as Under Secretary of State for Arms Control and International Security Affairs.

This memorandum shall be published in the Federal Register.

Dated: January 22, 2001.
Colin L. Powell,
Secretary of State.

[FR Doc. 01-4888 Filed 3-1-01; 8:45 am]

BILLING CODE 4710-10-U